CONSUMER PRODUCT SAFETY COMMISSION

Agency Information Collection Activities; Proposed Collection; Comment Request; Standard for the Flammability of Mattresses and Mattress Pads

AGENCY: Consumer Product Safety Commission.

ACTION: Notice.

SUMMARY: The Consumer Product Safety Commission (“CPSC” or “Commission”) is announcing an opportunity for public comment on the proposed collection of certain information by the agency. Under the Paperwork Reduction Act of 1995 (“the PRA”), Federal agencies are required to publish notice in the Federal Register concerning each proposed collection of information, including each proposed extension of an existing collection of information, and to allow 60 days for public comment in response to the notice. This notice solicits comments on the proposed extension of approval of a collection of information from manufacturers and importers of mattresses and mattress pads.

DATES: Submit written or electronic comments on the collection of information by July 19, 2010.

ADDRESSES: Submit written submissions in the following way:

Written comments should be captioned “Proposed Collection of Information—Mattresses and Mattress Pads” and e-mailed to the Office of the Secretary at cpsc-os@cpsc.gov. Comments may also be sent by facsimile to (301) 504-0127, or by Mail/Hand delivery/Courier (for paper, disk, or CD-ROM submissions), preferably in five copies, to: Office of the Secretary, Consumer Product Safety Commission, Room 502, 4330 East West Highway, Bethesda, MD 20814; telephone (301) 504-7923.

FOR FURTHER INFORMATION CONTACT: Linda Glatz, Division of Policy and Planning, Office of Information Technology, Consumer Product Safety Commission, 4330 East West Highway, Bethesda, MD 20814. 301-504-7671. lglatz@cpsc.gov.

SUPPLEMENTARY INFORMATION: Under the PRA (44 U.S.C. 3501-3520), Federal agencies must obtain approval from the Office of Management and Budget (“OMB”) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, the CPSC is publishing notice of the proposed collection of information set forth in this document.

With respect to the following collection of information, the CPSC invites comments on these topics: (1) Whether the proposed collection of information is necessary for the proper performance of CPSC's functions, including whether the information will have practical utility; (2) the accuracy of CPSC's estimate of the burden of the proposed collection of information, including the validity of the methodology and assumptions used; (3) ways to enhance the quality, utility, and clarity of the information to be collected; and (4) ways to minimize the burden of the collection of information on respondents, including through the use of automated collection techniques, when appropriate, and other forms of information technology.

Title: Standard for the Flammability of Mattresses and Mattress Pads—16 CFR part 1632 (OMB Control Number 3041-0014—Extension).

Description: The Standard for the Flammability of Mattresses and Mattress Pads was promulgated under section 4 of the Flammable Fabrics Act (“FFA”), 15 U.S.C. 1193, to reduce unreasonable risks of burn injuries and deaths from fires associated with mattresses and mattress pads. The standard prescribes a test to assure that a mattress or mattress pad will resist ignition from a smoldering cigarette. The standard requires manufacturers to perform prototype tests of each combination of materials and construction methods used to produce mattresses or mattress pads and to obtain acceptable results from such testing. Manufacturers and importers are required to maintain the records and test results specified under the standard. OMB previously approved the collection of information under control number 3041-0014. The Commission now proposes to request an extension of approval for the collection of information of the testing and recordkeeping requirements under 16 CFR part 1632.

In addition, the Standard for the Flammability (Open Flame) of Mattress Sets was promulgated under section 4 of the FFA, 16 CFR part 1633, to reduce deaths and injuries related to mattress fires, particularly those ignited by open flame sources such as lighters, candles and matches. The standard established new performance requirements for mattresses and mattress sets that will generate a smaller size fire from open flame source ignitions. Part 1633 also contains recordkeeping requirements to document compliance with the standard. OBM approved that collection of information under Control Number 3041-0133, with an expiration date of March 31, 2013. The testing and recordkeeping requirements under 16 CFR part 1633 do not replace the testing and recordkeeping requirements under 16 CFR part 1632.

In May 2006, an Interim Enforcement Policy for Mattresses subject to 16 CFR parts 1632 and 1633, effective May 1, 2006, was issued that reduced prototype surface testing and recordkeeping requirements from six mattress surfaces to two mattress surfaces for each new prototype created after March 15, 2006. Manufacturers that avail themselves of the reduced testing program will have to maintain records on the cigarette test performed but they will be testing only two surfaces rather than the required six surfaces. The policy is available at http://www.cpsc.gov/BUSINFO/Interimmattress.pdf. Mattress prototypes created before March 15, 2006, are subject to the full requirements of 16 CFR part 1632. In addition, mattress pads are not subject to this policy and must continue to adhere to all the requirements set forth in 16 CFR part 1632.

We estimate the burden of this collection of information as follows. The CPSC staff estimates that there are 671 respondents (571 establishments producing conventional mattresses and 100 establishments producing non-conventional mattresses in the United States, a total of 671). It is estimated that each respondent will spend 26 hours for testing and record keeping annually for a total of 17,446 hours (671 firms × 26 hours = 17,446 total hours requested). The annualized cost to respondents would be $993,201 based on 17,446 hours times $56.93/hour (based on total compensation of all management, professional, and related occupations in goods-producing industries in the United States, September 2009, Bureau of Labor Statistics).

The estimated annual cost of the information collection requirements to the Federal government is approximately $142,000. This sum includes 10 staff months and travel costs expended for examination of the information in records required to be maintained by the standard and enforcement rule.

Dated: May 12, 2010.
Todd A. Stevenson,
Secretary, Consumer Product Safety Commission.

[FR Doc. 2010-11754 Filed 5-17-10; 8:45 am]

BILLING CODE 6355-01-P